DEPARTMENT OF ENERGY

Federal Energy Regulatory Commission

[Docket No. RP96-383-052]

Dominion Transmission, Inc.; Notice of Compliance Filing

June 12, 2003.

Take notice that on June 6, 2003, Dominion Transmission, Inc. (DTI) tendered for filing as part of its FERC Gas Tariff, Third Revised Volume No. 1, the following tariff sheets, with an effective date of July 1, 2003.

Second Revised Sheet No. 1407

First Revised Sheet No. 1408

Second Revised Sheet No. 1409

First Revised Sheet No. 1410

First Revised Sheet No. 1411

First Revised Sheet No. 1412

DTI states that copies of its letter of transmittal and enclosures have been served upon DTI's customers and interested state commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 18, 2003.

Magalie R. Salas,
Secretary.

[FR Doc. 03-15438 Filed 6-18-03; 8:45 am]

BILLING CODE 6717-01-P